DEPARTMENT OF COMMERCE

International Trade Administration

[C-570-087]

Steel Propane Cylinders From the People's Republic of China: Postponement of Preliminary Determination in the Countervailing Duty Investigation

AGENCY: Enforcement and Compliance, International Trade Administration, Department of Commerce.

DATES: Applicable August 1, 2018.

FOR FURTHER INFORMATION CONTACT: Samuel Brummitt at (202) 482-7851, AD/CVD Operations, Enforcement and Compliance, International Trade Administration, U.S. Department of Commerce, 1401 Constitution Avenue NW, Washington, DC 20230.

SUPPLEMENTARY INFORMATION:

Background

On June 11, 2018, the Department of Commerce (Commerce) initiated a countervailing duty (CVD) investigation of imports of steel propane cylinders from the People's Republic of China (China).¹ Currently, the preliminary determination is due no later than August 15, 2018.

¹ See Steel Propane Cylinders From the People's Republic of China: Initiation of Countervailing Duty Investigation, 83 FR 28189 (June 18, 2018) (Initiation Notice).

Postponement of Preliminary Determinations

Section 703(b)(1) of the Tariff Act of 1930, as amended (the Act), requires Commerce to issue the preliminary determination in a countervailing duty investigation within 65 days after the date on which Commerce initiated the investigation. However, section 703(c)(1) of the Act permits Commerce to postpone the preliminary determination until no later than 130 days after the date on which Commerce initiated the investigation if: (A) The petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioners are Worthington Industries and Manchester Tank & Equipment Co.

On July 20, 2018, the petitioners submitted a timely request that Commerce postpone the preliminary CVD determination.³ The petitioners stated that the purpose of their request is to provide Commerce with adequate time to analyze fully questionnaire responses from the Government of China and the mandatory respondents and to determine the extent to which the respondents received countervailable subsidies.⁴ In accordance with 19 CFR 351.205(e), the petitioners have stated the reasons for requesting a postponement of the preliminary determination, and Commerce finds no compelling reason to deny the request. Therefore, in accordance with section 703(c)(1)(A) of the Act, Commerce is postponing the deadline for the preliminary determination to no later than 130 days after the date on which this investigation was initiated, i.e., October 19, 2018. Pursuant to section 705(a)(1) of the Act and 19 CFR 351.210(b)(1), the deadline for the final determination of this investigation will continue to be 75 days after the date of the preliminary determination.

³ See the petitioners' letter, “Steel Propane Cylinders from the People's Republic of China—Petitioners' Request to Postpone Preliminary Determination,” dated July 20, 2018.

⁴ Id.

This notice is issued and published pursuant to section 703(c)(2) of the Act and 19 CFR 351.205(f)(1).

Dated: July 26, 2018.
Gary Taverman,
Deputy Assistant Secretary for Antidumping and Countervailing Duty Operations, performing the non-exclusive functions and duties of the Assistant Secretary for Enforcement and Compliance.

[FR Doc. 2018-16447 Filed 7-31-18; 8:45 am]

BILLING CODE 3510-DS-P